DEPARTMENT OF THE INTERIOR

Bureau of Reclamation

Glen Canyon Dam Adaptive Management Work Group (AMWG), Notice of Meeting

AGENCY: Bureau of Reclamation, Interior.

ACTION: Notice of public meeting.

SUMMARY: The Adaptive Management Program (AMP) was implemented as a result of the Record of Decision on the Operation of Glen Canyon Dam Final Environmental Impact Statement to comply with consultation requirements of the Grand Canyon Protection Act (Pub. L. 102-575) of 1992. The AMP provides an organization and process to ensure the use of scientific information in decision making concerning Glen Canyon Dam operations and protection of the affected resources consistent with the Grand Canyon Protection Act. The AMP has been organized and includes a federal advisory committee (AMWG), a technical work group (TWG), a monitoring and research center, and independent review panels. The TWG is a subcommittee of the AMWG and provides technical advice and information for the AMWG to act upon.

Date and Location: The Glen Canyon Dam Adaptive Management Work Group will conduct the following public meeting:

Flagstaff, Arizona—March 28, 2003. The meeting will begin at 9:30 a.m. and conclude at 4 p.m. The meeting will be held at the Grand Canyon Monitoring and Research Center, 2255 N. Gemini Drive, Building #3 Conference Room, Flagstaff, Arizona.

Agenda: The purpose of the meeting will be to address the status of the humpback chub in the Colorado River. At the AMWG Meeting held on January 28-29, 2003, the following motion was passed: “AMWG meet in special session on or about April 1, 2003, to consider actions to implement a comprehensive research and management program for the HBC, and in the interim an ad hoc committee of AMWG, TWG, GCMRC, and science advisors develop recommendations and report to AMWG at the special session.” In conjunction with that motion, the HBC Ad Hoc Group was formed and will present their report to the AMWG at the meeting. There will be no additional agenda items.

Time will be allowed for any individual or organization wishing to make formal oral comments (limited to 5 minutes) at the meeting.

To allow full consideration of information by the AMWG members, written notice must be provided to Dennis Kubly, Bureau of Reclamation, Upper Colorado Regional Office, 125 South State Street, Room 6107, Salt Lake City, Utah, 84138; telephone (801) 524-3715; faxogram (801) 524-3858; e-mail at dkubly@uc.usbr.gov at least FIVE (5) days prior to the meeting. Any written comments received will be provided to the AMWG and TWG members.

FOR FURTHER INFORMATION CONTACT: Dennis Kubly, telephone (801) 524-3715; faxogram (801) 524-3858; or via e-mail at dkubly@uc.usbr.gov.

Dated: February 24, 2003.
Randall V. Peterson,
Manager, Adaptive Management and Environmental Resources Division, Upper Colorado Regional Office.

[FR Doc. 03-5393 Filed 3-6-03; 8:45 am]

BILLING CODE 4310-MN-P